ENVIRONMENTAL PROTECTION AGENCY

[ER-FRL-6626-5]

Environmental Impact Statements; Notice of Availability

Responsible Agency: Office of Federal Activities, General Information (202) 564-7167 or http://www.epa.gov/oeca/ofa. Weekly receipt of Environmental Impact Statements Filed February 04, 2002 Through February 08, 2002 Pursuant to 40 CFR 1506.9.

EIS No. 020055, Final EIS, FHW, CA, CA-70 Two-Lane Expressway Upgrade to a Four-Lane Expressway/Freeway, south of Striplin Road to south of McGowan Road Overcrossing, Funding and US Army COE Section 404 Permit Issuance, Sutter and Yuba Counties, CA, Wait Period Ends: March 18, 2002, Contact: Maiser Khaled (916) 498-5020.

EIS No. 020056, Draft EIS, BLM, WY, Powder River Basin Oil and Gas Project, Additional Coal Bed Methane (CBM) Resources Development, Drilling, Completing, Operating and Recalling of New CBM Wells and Constructing, Operating and Recalling of various Ancillary Facilities, Drill, Special Use and US Army COE Section 404 Permits and Right-of-Way Grant, Campbell, Converse, Sheridan and Johnson Counties, WY, Comment Period Ends: May 15, 2002, Contact: Paul Beels (307) 684-1168. This document is available on the Internet at: http://www.wy.blm.gov or http://www/prb-eis.org.

EIS No. 020057, Final EIS, AFS, UT, Griffin Springs Resource Management Project, Implementation, Commercial Timber Harvesting, Aspen Regeneration, Management Ignited Prescribed Fire, and Road Work, Dixie National Forest, Escalante Ranger District, Garfield County, UT, Wait Period Ends: March 18, 2002, Contact: Kevin Schulkoski (435) 826-5400.

EIS No. 020058, Final EIS, FHW, OK, I-40 Crosstown Expressway Transportation Improvements, I-235/I-35 Interchange west to Meridian Avenue, Funding, Oklahoma City, Oklahoma County, OK, Wait Period Ends: March 18, 2002, Contact: Lubin Quinones (405) 605-6174.

EIS No. 020059, Draft EIS, FRC, WA, Martin Creek Hydroelectric Project (FERC Project No. 10942), Construction, Operation and Maintenance of a 10.2-Megawatt (MW) Hydroelectric Run-of-River Facility, License Approval, Cascade Mountains, Martin and Kelley Creeks, Mt. Baker-Sqoqualmie National Forest, King County, WA, Comment Period Ends: April 1, 2002, Contact: David Turner (202) 019-2814.

EIS No. 020060, Draft EIS, BLM, MT, Montana Statewide Conventional Oil and Gas and Coal Bed Methane Gas Exploration and Development Management Plan within the Bureau of Land Management's Powder River and Billings Resources Management Plan Areas and the State of Montana, Implementation, MT, Comment Period Ends: May 15, 2002, Contact: Mary Bloom (406) 233-3649.

Amended Notices

EIS No. 010528, Draft EIS, AFS, MO, Oak Decline and Forest Health Project, To Improve Forest Health, Treat Affected Stands, Recover Valuable Timber Products, Promote Public Safety, Potosi and Salem Ranger Districts, Mark Twain National Forest, Crawford, Dent, Iron, Reynolds, Shannon and Washington, MO, Comment Period Ends: February 19, 2002, Contact: Karen Mobley (573) 729-6656. Revision of FR Notice Published on 12/01/2001: CEQ Comment Period Ending 02/04/2002 has been extended to 02/19/2002.

EIS No. 010545, Final EIS, COE, TN, Adoption—Upper Tennessee River Navigation Improvement Project, Rehabilitation and/or Construction, Chickamauga Dam—Navigation Lock Structural Improvement Alternative, Funding, NPDES, US Coast Guard Bridge and US Army COE Section 404 Permits Issuance, Tennessee River, Hamilton County, TN Contact: Wayne Easterling (615) 736-7847. US Army Corps of Engineers (COE) has adopted the Tennessee Valley Authority's FEIS #960147, filed with the US Environmental Protection Agency on 03/29/1996. COE was a Cooperating Agency for the above final EIS. Recirculation of the document is not necessary under Section 1506.3(c) of the Council on Environmental Quality Regulations. Revision of FR notice published on 02/08/2002: CEQ Accession Number Changed from 020043 to 010545. The above FEIS should have appeared in the FR on 12/21/2001.

EIS No. 010546, Draft Supplement, COE, TN, Chickamauga Dam Navigation Project, New and Updated Information concerning Cumulative Effects and Compliance with Section 106 of the Historic Preservation Act, NPDES, US Army COE Section 404 and US Coast Guard Permits Issuance, Tennessee River, Hamilton County, TN, Due: February 04, 2002, Contact: Wayne Easterling (615) 736-7847. Revision of FR notice published on 02/08/2002: Due to an Administrative Error by US Army Corps of Engineers (COE) the above DSEIS was not properly filed with the US Environmental Protection Agency. COE has confirmed that distribution of the DSEIS was made available to federal agencies and interested parties for the 45-Day Comment Period beginning on 12/21/2001 and ending 02/04/2002. For further information contact Mr. Wayne Huddleston at (615)736-7842. Change CEQ Accession No. 020055 to 010546 and Change CEQ Comment Period Ending 03/25/2002 to 02/04/2002.

Dated: February 12, 2002.
Joseph C. Montgomery,
Director, NEPA Compliance Division, Office of Federal Activities.

[FR Doc. 02-3755 Filed 2-14-02; 8:45 am]

BILLING CODE 6560-50-P